DEPARTMENT OF TRANSPORTATION

Federal Aviation Administration

Research, Engineering and Development (R,E&D) Advisory Committee

AGENCY: Federal Aviation Administration, Department of Transportation.

ACTION: Notice of meeting.

Pursuant to section 10(A)(2) of the Federal Advisory Committee Act (Public Law 92-463; 5 U.S.C. App. 2), notice is hereby given of a meeting of the FAA Research, Engineering and Development Advisory Committee (REDAC).

Name: Research, Engineering & Development Advisory Committee.

Time and Date: January 16, 2002—9 a.m.-5 p.m.

Place: Holiday Inn Rosslyn Westpark Hotel, 1900 North Fort Myer Drive, Arlington, Virginia 22209.

Purpose: On January 16 the R,E&D Advisory Committee will meet to review a report prepared by the Ad Hoc Security Subcommittee on aviation security. As a result of the tragic events of September 11, 2001, Administrator Jane Garvey reconstituted the Subcommittee on Aviation Security into an Ad Hoc Security Subcommittee to evaluate security related research ideas capabilities resulting from the thousands of solicited and unsolicited recommendations on how to mitigate attempted acts of terrorism received by FAA. These recommendations came from private enterprises, universities, other government agencies, private consultants, citizens and elements within FAA. The AD Hoc Security Subcommittee is comprised of the REDAC Security Subcommittee members, Chairs of the other REDAC subcommittees, four Aviation Security Advisory Committee (ASAC) members, and selected DOD and Boeing representatives.

Attendance is open to the interested public but limited to space available. Persons wishing to attend the meeting or obtain information should contact Gloria Dunderman at the Federal Aviation Administration, AAR-200, 800 Independence Avenue, SW, Washington, DC 20591 (202) 267-8937.

Members of the public may present a written statement to the Committee at any time.

Issued in Washington, DC on December 18, 2001.
Herman A. Rediess,
Director, Office of Aviation Research.

[FR Doc. 01-31728 Filed 12-26-01; 8:45 am]

BILLING CODE 4910-13-M